FEDERAL COMMUNICATIONS COMMISSION

[OMB 3060-1208; FR ID 134131]

Information Collection Being Reviewed by the Federal Communications Commission Under Delegated Authority

Correction

In notice document 2023-06813, appearing on pages 19643 through 19644, in the issue of April 3, 2023 make the following correction:

On page 19643, in the second column, in the DATES section, the section line, “April 3, 2023” should read, “June 2, 2023.”

[FR Doc. C1-2023-06813 Filed 4-6-23; 8:45 am]

BILLING CODE 0099-10-D